ENVIRONMENTAL PROTECTION AGENCY

[EPA-HQ-OPP-2008-0922; FRL-8402-2]

Pesticides; Availability of Updated Schedule for Registration Review

AGENCY: Environmental Protection Agency (EPA).

ACTION: Notice.

SUMMARY: EPA is announcing the availability of an updated schedule for the pesticide registration review program, the periodic review of all registered pesticides mandated by section 3(g) of the Federal Insecticide, Fungicide, and Rodenticide Act (FIFRA). The updated schedule provides the timetable for opening dockets for the next 4 years of the registration review program - fiscal year (FY) 2009 to FY 2012 - and includes information on the FY 2007 and FY 2008 registration review cases.

FOR FURTHER INFORMATION CONTACT: Kevin Costello, Special Review and Reregistration Division (7508P), Office of Pesticide Programs, Environmental Protection Agency, 1200 Pennsylvania Ave., NW., Washington, DC 20460-0001; telephone number: (703) 305-5026; fax number: (703) 308-8090; e-mail address: costello.kevin@epa.gov.

SUPPLEMENTARY INFORMATION:

I. General Information

A. Does this Action Apply to Me?

This action is directed to the public in general, and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2008-0922. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

A. What Action is the Agency Taking?

EPA is issuing an updated schedule for the registration review program, the Agency’s periodic review of all registered pesticides mandated by section 3(g) of FIFRA. This updated schedule provides the timetable for opening dockets for the next 4 years of the program - FY 2009 to FY 2012.

The Pesticide Registration Improvement Act of 2003 as amended in 2007 (PRIA II) requires EPA to complete registration review decisions by October 1, 2022, for all pesticides registered as of October 1, 2007. To ensure meeting this requirement, EPA will open approximately 70 pesticide registration review dockets annually beginning in FY 2009 and continuing through 2017, so that almost all pesticides registered at the start of the program will have dockets opened by 2017. Some biopesticide dockets will be opened in 2018 through 2020. The Agency anticipates that this scheduling will provide adequate lead times to complete registration review decisions for all currently registered pesticides by 2022. During the first several years of the program, EPA is developing a pipeline of pesticides under review so that it will have the capacity to make 70 or more decisions each year. EPA expects a total of about 710 pesticide cases comprising 1,136 pesticide active ingredients to undergo registration review by 2022.

Each pesticide’s place on the schedule is generally determined by its baseline date — the date of its last substantive review — with the oldest cases going first. The baseline date for a pesticide that was subject to reregistration is the date of the Reregistration Eligibility Decision (RED). The baseline date for pesticides that were not subject to reregistration is the registration date of the first product containing the active ingredient. Although, the schedule generally is constructed chronologically, some registration review cases are grouped in the schedule for greater efficiency. For example, pesticides that are chemically related or use-related (e.g., organophosphate and carbamate chemical classes, the coppers group, and the pyrethroids, pyrethrins, and syngergists group) generally will be reviewed during the same time frame.

As reflected in the updated schedule, EPA also intends to review the neonicotinoid pesticides as a group, and has moved several of these pesticides ahead in the schedule so that dockets for all will open no later than FY 2012. The neonicotinoids are a class of insecticides with a common mode of action that affects the central nervous system of insects, causing paralysis and death. European studies suggest that neonicotinic residues can accumulate in pollen and nectar of treated plants, and represent a potential risk to pollinators. The registration review docket for the neonicotinoid imidacloprid opened in December 2008, and the docket for nithiazine is scheduled to be opened in March 2009. To better ensure a “level playing field” for the neonicotinoid class as a whole, and to best take advantage of new research as it becomes available, the Agency has moved the docket openings for the remaining neonicotinoids on the registration review schedule (acetamiprid, clothianidin, dinotefuran, nitrapyrin, thiacloprid, and thiamethoxam) to FY 2012.

EPA also announces that beginning in 2009, all new dockets for conventional pesticide cases entering registration review will have a 60-day public comment period. During the comment period on new registration review dockets, the Agency asks interested persons to review Summary Documents and other information in the dockets, and identify any additional information that the Agency should consider during the registration reviews of these pesticides. Based on over 2 years of experience in implementing the registration review program, EPA believes that 60 days will both allow the public to review these dockets and identify any additional information that the Agency should consider, and enable the Agency to open 70 new dockets annually and comply with the PRIA II requirement that each pesticide case be reevaluated within a 15-year timeframe. The comment period for antimicrobial, biopesticide, and microbial pesticide cases has previously been set at 60 days.

Background information on the program is provided at: http://www.epa.gov/oppsrrd1/registration_review/.The current schedule is available at: http://www.epa.gov/oppsrrd1/registration_review/schedule.htm. An explanation of the schedule is at: http://www.epa.gov/oppsrrd1/registration_review/explanation.htm. Information about the neonicotinoids and other groups of related pesticides beginning registration review is available at: http://www.epa.gov/oppsrrd1/registration_review/highlights.htm.

B. What is the Agency's Authority for Taking this Action?

EPA is announcing this updated schedule for the registration review program as provided in 40 CFR 155.42(d) and 155.44 of the Procedural Regulations for Registration Review: Final Rule (http://www.epa.gov/fedrgstr/EPA-PEST/2006/August/Day-09/p12904.htm). The Agency may consider issues raised by the public or registrant when reviewing a posted schedule, to schedule a pesticide registration review, or to modify the schedule of a pesticide registration review as appropriate. This schedule will be updated at least once every year.

List of Subjects

Environmental protection, Agricultural commodities, Pesticides and pests.

Dated: February 9, 2009.
Richard P. Keigwin, Jr.
Director, Special Review and Reregistration Division, Office of Pesticide Programs.

[FR Doc. E9-5199 Filed 3-10-09; 8:45 a.m.]

BILLING CODE 6560-50-S